DEPARTMENT OF THE INTERIOR

Bureau of Land Management

[ID-933-1430-01; IDI-011668 01]

Public Land Order No. 7429; Partial Revocation of Public Land Order No. 3398; Idaho

AGENCY: Bureau of Land Management, Interior.

ACTION: Public land order.

SUMMARY: This order partially revokes a public land order insofar as it affects 958.98 acres of public lands withdrawn for the Bureau of Land Management for use as a stock driveway. The lands are no longer needed for this purpose, and the revocation is needed to permit disposal of lands through exchange. This action will open the lands to surface entry under the public land laws. The lands have been and will remain open to mining and mineral leasing.

EFFECTIVE DATE: March 20, 2000.

FOR FURTHER INFORMATION CONTACT: Jackie Simmons, BLM Idaho State Office, 1387 S. Vinnell Way, Boise, Idaho 83709, 208-373-3867.

By virtue of the authority vested in the Secretary of the Interior by Section 204 of the Federal Land Policy and Management Act of 1976, 43 U.S.C. 1714 (1994), it is ordered as follows:

1. Public Land Order No. 3398 dated May 18, 1964, which withdrew public lands for the Bureau of Land Management for use as a stock driveway, is hereby revoked insofar as it affects the following described lands:

Boise Meridian

T. 7 N., R. 3 W.,

Sec. 4, lots 1 to 4, inclusive, S½N½, and E½SE¼;

Sec. 5, lot 1, and SE¼NE¼.

T. 8 N., R. 3 W.,

Sec. 31, NE¼SE¼;

Sec. 32, N½S½, SE¼SW¼, and S½SE¼;

Sec. 33, S½S½.

The areas described aggregate 958.98 acres in Gem and Payette Counties.

2. At 9:00 a.m. on March 20, 2000. The lands described above will be opened to the operation of the public land laws generally, subject to valid existing rights, the provisions of existing withdrawals, other segregations of record, and the requirements of applicable law. All valid applications received at or prior to 9 a.m. on March 20, 2000, shall be considered as simultaneously filed at that time.

Dated: January 18, 2000.
John Berry,
Assistant Secretary of the Interior.

[FR Doc. 00-3954 Filed 2-17-00; 8:45 am]

BILLING CODE 4310-GG-P